DEPARTMENT OF ENERGY

Federal Energy Regulatory Commission

Combined Notice of Filings #2

Take notice that the Commission received the following electric corporate filings:

Docket Numbers: EC18-97-000.

Applicants: NextEra Energy Transmission Southwest, LLC.

Description: Application for Authorization Under Section 203 of the Federal Power Act of NextEra Energy Transmission Southwest, LLC.

Filed Date: 6/5/18.

Accession Number: 20180605-5094.

Comments Due: 5 p.m. ET 6/26/18.

Take notice that the Commission received the following exempt wholesale generator filings:

Docket Numbers: EG18-95-000.

Applicants: Langdon Renewables, LLC.

Description: Notice of Self-Certification of Exempt Wholesale Generator Status of Langdon Renewables, LLC.

Filed Date: 6/5/18.

Accession Number: 20180605-5083.

Comments Due: 5 p.m. ET 6/26/18.

Take notice that the Commission received the following electric rate filings:

Docket Numbers: ER18-1173-001.

Applicants: Midcontinent Independent System Operator, Inc.

Description: Tariff Amendment: 2018-06-05_Deficiency response for Locational Filing to be effective 5/30/2018.

Filed Date: 6/5/18.

Accession Number: 20180605-5129.

Comments Due: 5 p.m. ET 6/26/18.

Docket Numbers: ER18-1743-000.

Applicants: New York Independent System Operator, Inc.

Description: § 205(d) Rate Filing: NYISO 205 filing of tariff revisions to Alternate LCR to be effective 8/5/2018.

Filed Date: 6/5/18.

Accession Number: 20180605-5041.

Comments Due: 5 p.m. ET 6/26/18.

Docket Numbers: ER18-1744-000.

Applicants: PacifiCorp.

Description: § 205(d) Rate Filing: Tri-State Trans Ownership, O&M to be effective 8/5/2018.

Filed Date: 6/5/18.

Accession Number: 20180605-5067.

Comments Due: 5 p.m. ET 6/26/18.

Docket Numbers: ER18-1745-000.

Applicants: PJM Interconnection, L.L.C.

Description: § 205(d) Rate Filing: Second Revised ISA SA No. 4063; Queue No. Y2-078/AB2-014/AD1-059 to be effective 5/7/2018.

Filed Date: 6/5/18.

Accession Number: 20180605-5097.

Comments Due: 5 p.m. ET 6/26/18.

Docket Numbers: ER18-1746-000.

Applicants: PJM Interconnection, L.L.C.

Description: § 205(d) Rate Filing: Second Revised ISA SA No. 3903; Queue No. AC1-021 to be effective 5/7/2018.

Filed Date: 6/5/18.

Accession Number: 20180605-5121.

Comments Due: 5 p.m. ET 6/26/18.

Take notice that the Commission received the following electric reliability filings:

Docket Numbers: RR18-7-000.

Applicants: North American Electric Reliability Corporation.

Description: Petition for Approval of Amendments to the Bylaws of the North American Electric Reliability Corporation.

Filed Date: 6/4/18.

Accession Number: 20180604-5136.

Comments Due: 5 p.m. ET 6/25/18.

Docket Numbers: RR18-8-000.

Applicants: North American Electric Reliability Corporation.

Description: Petition of the North American Electric Reliability Corporation for Approval of Amendments to the Midwest Reliability Organization Bylaws.

Filed Date: 6/4/18.

Accession Number: 20180604-5137.

Comments Due: 5 p.m. ET 6/25/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 5, 2018.
Nathaniel J. Davis, Sr.,
Deputy Secretary.

[FR Doc. 2018-12464 Filed 6-8-18; 8:45 am]

BILLING CODE 6717-01-P